DEPARTMENT OF COMMERCE

National Oceanic and Atmospheric Administration

[I.D. 112803C]

RIN 0648-AR74

Fisheries of the Exclusive Economic Zone Off Alaska; Rebuilding Overfished Fisheries

AGENCY: National Marine Fisheries Service (NMFS), National Oceanic and Atmospheric Administration (NOAA), Commerce.

ACTION: Approval of a fishery management plan amendment.

SUMMARY: NMFS announces the approval of Amendment 17 to the Fishery Management Plan for Bering Sea and Aleutian Islands King and Tanner Crabs (FMP). This amendment is necessary to implement a rebuilding plan for the overfished stock of Pribilof Islands blue king crab. This action is intended to ensure that conservation and management measures continue to be based on the best scientific information available and is intended to achieve, on a continuing basis, optimum yield from the affected crab fisheries.

DATES: The amendment was approved on March 18, 2004.

ADDRESSES: Copies of Amendment 17 to the FMP and the Environmental Assessment (EA) prepared for the amendment are available from the Sustainable Fisheries Division, Alaska Region, NMFS, P.O. Box 21668, Juneau, AK 99802-1668, Attn: Lori Durall.

FOR FURTHER INFORMATION CONTACT: Gretchen Harrington, 907-586-7228 or gretchen.harrington@noaa.gov.

SUPPLEMENTARY INFORMATION: NMFS declared the Pribilof Islands stock of blue king crab (Paralithodes platypus) overfished because the spawning stock biomass was below the minimum stock size threshold defined in the FMP. On September 23, 2002, NMFS notified the Council that the Pribilof Islands blue king crab stock was overfished (67 FR 62212, October 4, 2002). The Council then developed a rebuilding plan within 1 year of notification as required by section 304(e)(3) of the Magnuson-Stevens Fishery Conservation and Management Act (Magnuson-Stevens Act). In October 2003, the Council adopted Amendment 17, the rebuilding plan, to accomplish the purposes outlined in the national standard guidelines to rebuild the overfished stock.

Amendment 17 specifies a time period for rebuilding the stock intended to satisfy the requirements of the Magnuson-Stevens Act. Under the rebuilding plan, the Pribilof Islands blue king crab stock is estimated to rebuild, with a 50 percent probability, within 10 years. The stock will be considered “rebuilt” when it reaches the maximum sustainable yield stock size level in two consecutive years. This rebuilding time period is as short as possible and takes into account the status and biology of the stock, the needs of fishing communities, and the interaction of the overfished stock within the marine ecosystem, as required by the Magnuson-Stevens Act in section 304(e)(4)(A)(i).

The rebuilding harvest strategy, which closes the directed fishery until the stock is rebuilt, should result in more spawning biomass than allowing a fishery during the rebuilding period. With the directed fishery closed, more large male crab would be conserved and fewer juveniles and females would die due to incidental catch and discard mortality. More spawning biomass would be expected to produce larger year-classes when environmental conditions are favorable.

This conservative rebuilding plan is warranted at this time for this stock given the concerns regarding the rebuilding potential of this stock, the potential vulnerability to overfishing, and the poor precision of survey estimates. The other alternatives under consideration that would allow fishing prior to stock rebuilding would not provide sufficient safeguards for this vulnerable stock. The preferred alternative, while forgoing harvest in the short-term, is the strongest guarantee that stock abundance will increase and support a fishery in the long term. Once rebuilt, fishing communities would once again have opportunities (both fishing and processing) to participate in this fishery. As this rebuilding plan applies the same restrictions to all participants, the plan allocates the fishery restrictions fairly and equitably among sectors of the fishery. Likewise, the plan allocates all recovery benefits fairly and equitably among sectors of the fishery.

No additional habitat or bycatch measures are part of this rebuilding plan because neither habitat nor bycatch measures are expected to have a measurable impact in rebuilding. Habitat is thoroughly protected from fishing impacts by the existing Pribilof Islands Habitat Conservation Zone, which encompasses the majority of blue king crab habitat. Bycatch of blue king crab in both crab and groundfish fisheries is a negligible proportion of the total population abundance.

An EA was prepared for Amendment 17 that describes the management background, the purpose and need for action, the management alternatives, and the environmental and socioeconomic impacts of the alternatives. A copy of the EA can be obtained from the NMFS (see ADDRESSES).

A notice of availability for Amendment 17 to the FMP, which describes the proposed amendment and invited comments from the public, was published in the Federal Register on December 18, 2003 (68 FR 70484). Comments were invited through February 17, 2004.

Response to Comments

NMFS received one public comment on Amendment 17.

Comment: The comment expressed a concern that there is too much commercial overfishing and too many violations occurring in the crab fisheries. The comment raised the following five issues regarding crab fisheries management:

1. Let the public comment by email.

2. Immediately establish no fishing sanctuaries.

3. The 10-year rebuilding period is too long and NMFS should cut harvest levels by 50 percent this year and 10 percent each succeeding year.

4. Increase fines and jail violators of fishing regulations.

5. Establish enforcement at the dock to search for violations of fisheries regulations.

Response: 1. As of February 2, 2004, NMFS accepts public comments via email.

2. Existing closed areas protect blue king crab and their habitat from the effects of fishing. Trawl fishing is prohibited in the Pribilof Islands Habitat Conservation Zone established to protect crab habitat in the Pribilof Islands area. The State of Alaska established a no-fishing zone to protect blue king crab in state waters around the St. Matthews, Hall, and Pinnacles Islands.

3. The 10-year rebuilding time period is as short as possible and takes into account the status and biology of the stock, the needs of fishing communities, and the interaction of the overfished stock within the marine ecosystem, as required by the Magnuson-Stevens Act in section 304(e)(4)(A)(i). Harvest levels do not need to be reduced, as the comment suggests, because harvests currently are prohibited. Under this rebuilding plan, the Pribilof Islands blue king crab fishery is closed until the stock rebuilds.

4. NMFS believes the fines and permit sanctions available under Magnuson-Stevens Act are sufficient to deter unlawful activity. Additionally, the Magnuson-Stevens Act does not provide authority for NMFS to jail violators of fishery regulations.

5. NMFS agrees that enforcement at the dock is an important component of ensuring compliance with fishery regulations, and, therefore, NMFS conducts dockside enforcement. NMFS determined that Amendment 17 to the FMP is consistent with the Magnuson-Stevens Act and other applicable laws and approved Amendment 17 on March 18, 2004. Additional information about this action is contained in the December 18, 2003, notice of availability (68 FR 70484).

Dated: March 29, 2004.
Alan D. Risenhoover,
Acting Director, Office of Sustainable Fisheries, National Marine Fisheries Service.

[FR Doc. 04-7509 Filed 4-02-04; 8:45 am]

BILLING CODE 3510-22-S